Title 3—

The President

Executive Order 13362 of November 29, 2004

Designation of Additional Officers for the Department of Homeland Security Order of Succession

By the authority vested in me as President by the Constitution and the laws of the United States of America and pursuant to the Federal Vacancies Reform Act of 1998, 5 U.S.C. 3345 et seq., it is hereby ordered that:

Section 1. During any period when the Secretary of Homeland Security (Secretary), the Deputy Secretary of Homeland Security, and the officers designated to perform the functions and duties of the office of Secretary by section 88 of Executive Order 13286 of February 28, 2003 (“Amendment of Executive Orders, and Other Actions, in Connection With the Transfer of Certain Functions to the Secretary of Homeland Security”), have died, resigned, or otherwise become unable to perform the functions and duties of the office of Secretary, the following officers of the Department of Homeland Security, in the order listed, shall perform the functions and duties of the office of Secretary, if they are eligible to act as Secretary under the provisions of the Federal Vacancies Reform Act of 1998, until such time as at least one of the officers mentioned above is able to perform the functions and duties of the office of Secretary:

Director, Region V, Federal Emergency Management Agency;

Director, Region VI, Federal Emergency Management Agency;

Director, Region VII, Federal Emergency Management Agency;

Director, Region VIII, Federal Emergency Management Agency; and

Director, Region X, Federal Emergency Management Agency.

Sec. 2. Exceptions.

(a) No individual who is serving in an office listed in section 1 in an acting capacity, by virtue of so serving, shall act as Secretary pursuant to this order.

(b) Notwithstanding the provisions of this order, the President retains discretion, to the extent permitted by law, to depart from this order in designating an acting Secretary.

B

THE WHITE HOUSE,

November 29, 2004.

[FR Doc. 04-26684

Filed 12-1-04; 9:47 am]

Billing code 3195-01-P